DEPARTMENT OF HOMELAND SECURITY

8 CFR Part 214

RIN 1615-AC63

DEPARTMENT OF LABOR

Office of the Secretary of Labor

20 CFR Part 655

29 CFR Parts 18 and 503

RIN 1290-AA43

Discretionary Review by the Secretary of Labor

AGENCY: U.S. Citizenship and Immigration Services, Department of Homeland Security and Office of the Secretary, Department of Labor.

ACTION: Direct final rule; withdrawal.

SUMMARY: Due to the receipt of a significant adverse comment, the Department of Homeland Security and the Department of Labor (Departments) are jointly withdrawing the January 4, 2021, direct final rule (DFR) that would have extended DOL's recently established system of discretionary Secretary of Labor review to H-2B temporary labor certification cases (H-2B cases) pending before or decided by the Department of Labor's Board of Alien Labor Certification Appeals and made technical, conforming changes to regulations governing the timing and finality of those decisions and of decisions from the Department of Labor's Administrative Review Board in H-2B cases.

DATES: As of February 2, 2021, the direct final rule published at 86 FR 1 on January 4, 2021, is withdrawn.

FOR FURTHER INFORMATION CONTACT: Todd Smyth, General Counsel, U.S. Department of Labor, Office of Administrative Law Judges, 800 K Street NW, Washington, DC 20001-8002; telephone (513) 684-3252. Individuals with hearing or speech impairments may access the telephone number above by TTY by calling the toll-free Federal Information Relay Service at (800) 877-8339.

SUPPLEMENTARY INFORMATION: In the DFR, the Departments stated that if a significant adverse comment was submitted by January 19, 2021, the Departments would publish a timely withdrawal in the Federal Register informing the public that the DFR will not take effect. The Departments received a significant adverse comment prior to the close of the comment period and are therefore withdrawing the DFR. The Departments may address all comments, as appropriate, in a new final rule based upon the proposed rule also published in the Federal Register on January 4, 2021 (86 FR 29).

List of Subjects

20 CFR Part 655

Administrative practice and procedure, Labor certification processes for temporary employment.

29 CFR Part 18

Administrative practice and procedure, Labor.

29 CFR Part 503

Administrative practice and procedure, Obligations; Enforcement, Immigration and Nationality Act, Temporary alien non-agricultural workers.

Accordingly, the amendments to 20 CFR part 655 and 29 CFR parts 18 and 503, published in the Federal Register on January 4, 2021 (86 FR 1), which were to take effect February 3, 2021, are withdrawn as of February 2, 2021.

Milton Al Stewart,
Acting Secretary of Labor.
David P. Pekoske,
Acting Secretary of Homeland Security.

[FR Doc. 2021-02317 Filed 2-2-21; 8:45 am]

BILLING CODE